DEPARTMENT OF JUSTICE

Notice of Lodging of Consent Decree Pursuant to the Comprehensive Environmental Response, Compensation, and Liability Act and Federal Water Pollution Control Act

Notice is hereby given that, consistent with the policy of Section 122(d)(2) of CERCLA, 42 U.S.C. 9622(d)(2), and 28 CFR 50.7, a proposed Partial Consent Decree (the “Decree”) in United States v. ASARCO, et al., Civil Action No. 96-0122-N-EJL was lodged on April 18, 2001 with the United States District Court for the District of Idaho. The Decree resolves claims by the United States against two of the remaining named defendants in this action, Coeur d'Alene Mines Corporation and Callahan Mining Corporation and potential claims against Coeur Silver Valley, Inc. a subsidiary of Coeur d'Alene Mines Corporation (collectively the “Coeur Defendants” ).

The United States' Second Amended Complaint in this action alleges that the Coeur d'Alene Mines Corporation and Callahan Mining Corporation and other mining companies, including ASARCO, Inc. and Hecla Mining Co., are liable for past and future response costs and natural resource damages at the Bunker Hill Superfund Facility (the “Facility” ) in the Coeur d'Alene Basin (the “Basin”) of northern Idaho, under Section 107 of the Comprehensive Environmental Response, Compensation, and Liability Act of 1980 (“CERCLA” ), 42 U.S.C. 9607, and Section 311(f) of the Federal Water Pollution Control Act (the “Clean Water Act” ), 33 U.S.C. 1321(f). Trial on liability, natural resource injury, and causation issues began on January 22, 2001 and will continue, after a recess, on May 14, 2001.

Under this proposed Decree, Coeur agrees to: (1) pay $3,871,924 for response costs or damages within 45 days of entry of the consent decree; (2) pay the United States 50 percent of any future insurance recovery in excess of $600,000; (3) convey title to a 74-acre parcel of land, called the “Burns-Yaak Property,” for possible use as a waste repository; (4) perform cleanup work and/or institute institutional controls on a closed mine site, the McFarran Gulch Property (a/k/a old Coeur d'Alene Mine) and pay EPA's oversight costs; and (5) commencing five years after entry of the consent decree, pay royalties to the United States on all of its silver and gold mining revenues whenever the market price of silver exceeds $6.50 per ounce or the price of gold exceeds $325 per ounce, up to a ceiling of $3 million. The Decree reserves claims by the United States for, among other things, response actions on certain properties in the Basin that the Coeur Defendants will continue to own.

The Department of Justice will receive comments relating to the proposed Decree until May 7, 2001. This period for comments has been limited in order to allow the parties to seek District Court approval of the Decree before the scheduled re-start of trial on May 14, 2001. Comments should be addressed to the Assistant Attorney General for the Environment and Natural Resources Division, Department of Justice, 950 Pennsylvania Avenue, NW., Washington, DC 20530, and should refer to United States v. ASARCO, DOJ Ref. #90-11-3-128L. Commenters may request an opportunity for a public meeting in the affected area, in accordance with Section 7003(d) of RCRA, 42 U.S.C. 6973(d).

The proposed Decree may be examined at the office of the United States Attorney, District of Idaho, 877 W. Main, Suite 201, Boise, Idaho 83702 (208) 334-1211; and the Region X Office of the Environmental Protection Agency, 1200 Sixth Avenue, Seattle, Washington 98101. A copy of the proposed Decree may also be obtained by mail from the Consent Decree Library, P.O. Box 7611, Washington, DC 20044, or by telephonic request to Mr. Joe Davis at (202) 616-7940. In requesting a copy of the Consent Decree, please refer to the referenced case and enclose a check in the amount of $17.75 (25 cents per page reproduction costs), payable to the Consent Decree Library.

Bruce S. Gelber,
Chief, Environmental Enforcement Section, Environmental and Natural Resources Division.

[FR Doc. 01-10003 Filed 4-20-01; 8:45 am]

BILLING CODE 4410-15-M